FEDERAL COMMUNICATIONS COMMISSION

Open Commission Meeting, Tuesday, September 26, 2017

September 19, 2017.

The Federal Communications Commission will hold an Open Meeting on the subjects listed below on Tuesday, September 26, 2017 which is scheduled to commence at 10:30 a.m. in Room TW-C305, at 445 12th Street SW., Washington, DC.

Item No. | Bureau | Subject
1 | Media | Title: Amendment of Parts 74, 76 and 78 of the Commission's Rules Regarding Maintenance of Copies of FCC Rules (MB Docket No. 17-231); Modernization of Media Regulation Initiative (MB Docket No. 17-105).
|  | Summary: The Commission will consider a Notice of Proposed Rulemaking that proposes to eliminate rules requiring certain broadcast and cable entities to maintain paper copies of FCC rules.
2 | Media | Title: Cable Television Technical and Operational Standards (MB Docket No. 12-217).
|  | Summary: The Commission will consider a Report and Order that modernizes its cable television technical rules to reflect the cable industry's use of digital transmission systems.
3 | Media | Title: Revitalization of the AM Radio Service (MB Docket No. 13-249).
|  | Summary: The Commission will consider a Third Report and Order that will relax or eliminate certain rules pertaining to AM broadcasters employing and maintaining directional antenna arrays.
4 | International | Title: Update to Parts 2 and 25 Concerning Non-Geostationary, Fixed-Satellite Service Systems and Related Matters (IB Docket No. 16-408).
|  | Summary: The Commission will consider a Report and Order and Further Notice of Proposed Rulemaking that recommends updating and streamlining the Commission's rules to facilitate the licensing of the next generation of non-geostationary, fixed-satellite service systems.
5 | Wireless Telecommunications | Title: Revisions to Reporting Requirements Governing Hearing Aid-Compatible Mobile Handsets (WT Docket No. 17-228).
|  | Summary: The Commission will consider a Notice of Proposed Rulemaking that seeks comment on revisions to the wireless hearing aid compatibility annual reporting requirement to provide relief to non-nationwide service providers.
6 | Wireline Competition | Title: Toll Free Assignments Modernization (WC Docket No. 17-192); Toll Free Service Access Codes (CC Docket No. 95-155).
|  | Summary: The Commission will consider a Notice of Proposed Rulemaking that proposes to amend the Commission's rules to allow for use of auctions to assign certain toll free numbers and considers other means by which to modernize the administration and assignment of toll free numbers.
7 | Public Safety & Homeland Security | Title: Inquiry Concerning 911 Access, Routing, and Location in Enterprise Communications Systems (PS Docket No. 17-239).
|  | Summary: The Commission will consider a Notice of Inquiry that seeks comment on the provision of 911 by enterprise communications systems that serve businesses, hotels, educational institutions, and government entities.
8 | Wireless Telecommunications | Title: Implementation of Section 6002(b) of the Omnibus Budget Reconciliation Act of 1993; Annual Report and Analysis of Competitive Market Conditions With Respect to Mobile Wireless, Including Commercial Mobile Services (WT Docket No. 17-69).
|  | Summary: The Commission will consider a Report analyzing the state of competition in the mobile wireless industry.
9 | Enforcement | Title: Enforcement Bureau Action.
|  | Summary: The Commission will consider an enforcement action.
10 | Public Safety and Homeland Security | Presentation: The Commission will receive a briefing from the Public Safety & Homeland Security Bureau on the Commission's response to recent hurricanes.

* * * * *

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services, call (703) 993-3100 or go to www.capitolconnection.gmu.edu.

Federal Communications Commission.
Marlene H. Dortch,
Secretary.

[FR Doc. 2017-20589 Filed 9-25-17; 8:45 am]

BILLING CODE 6712-01-P